DEPARTMENT OF THE INTERIOR

National Park Service

[NPS-WASO-NAGPRA-NPS0032457; PPWOCRADN0-PCU00RP14.R50000]

Notice of Intent To Repatriate Cultural Items: The State Museum of Pennsylvania, Harrisburg, PA

AGENCY: National Park Service, Interior.

ACTION: Notice.

SUMMARY: The State Museum of Pennsylvania, in consultation with the appropriate Indian Tribes or Native Hawaiian organizations, has determined that the cultural items listed in this notice meet the definition of unassociated funerary objects. Lineal descendants or representatives of any Indian Tribe or Native Hawaiian organization not identified in this notice that wish to claim these cultural items should submit a written request to The State Museum of Pennsylvania. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to The State Museum of Pennsylvania at the address in this notice by September 24, 2021.

FOR FURTHER INFORMATION CONTACT: Dr. Kurt W. Carr, The State Museum of Pennsylvania, 300 North Street, Harrisburg, PA 17120-0024, telephone (717) 783-9926, email kcarr@pa.gov.

SUPPLEMENTARY INFORMATION: Notice is here given in accordance with the Native American Graves Protection and Repatriation Act (NAGPRA), 25 U.S.C. 3005, of the intent to repatriate cultural items under the control of The State Museum of Pennsylvania, Harrisburg, PA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In October of 1935, 21 cultural items were removed from the Northbrook Cemetery (36CH0061) in Chester County, PA. These items were received by The State Museum of Pennsylvania as part of the Charles and Theodore Dutt collection in 1982. The Dutt brothers collected artifacts on the surface of the ground in the Brandywine, Chester Creek, and Ridley Creek drainages. They reported finding the Northbrook Cemetery site because of a ground hog disturbance which yielded pieces of copper, a glass bead, and bone fragments. An account of the recovery is reported in C. A. Weslager, Red Men on the Brandywine, pp. 134-136 (1953). On October 19, 1935, the Dutts returned to the site with the landowner, Mr. Peterson, to further investigate the area. A burial was discovered along with additional beads, broken copper rings and nails. The skeletal remains are not present in the collections of The State Museum of Pennsylvania, and there is no information showing that they were ever removed from the burial. The 21 unassociated funerary objects are 13 white glass beads, three iron nails, one copper wire dangler wrapped around hair (no determination if animal or human), and four fragments of copper rings.

Archeological and archival evidence suggest that the materials were associated with historic Delaware (Lenape) burials. Historic documents indicate that in 1731, James Logan provided an area along either side of the Brandywine Creek to be retained by Indians occupying this region. The Delaware entered into numerous agreements with the Commonwealth's colonial government and are recognized as the primary tribal group for this region.

In 1978, 135 cultural items were removed from the Montgomery site (36CH0060), Chester County, PA, by Marshall Becker of West Chester University with the permission of the landowner. The Montgomery site is a Historic period site (A.D. 1700-1733). The collection was the product of a joint research project conducted by West Chester University and The State Museum of Pennsylvania in Wallace Township, Chester County, PA. Archeological and archival evidence suggest that these 135 objects are associated with the Delaware Tribes. The 135 unassociated funerary objects are 131 fragments of organic fiber, one iron nail fragment, and three unmodified quartzite lithic fragments. Oral tradition, ethnohistorical, and archeological evidence place a “Brandywine band” of the Lenape (Delaware) at the site ca. A.D. 1730.

Settlements documented in Chester County, include Okehocking, Queonemysing, and four others whose Delaware names are not known. Colonial documents identify these settlements as being variously occupied from the 1690s to the 1730s, when William Penn was beginning to establish Pennsylvania.

Determinations Made by The State Museum of Pennsylvania

Officials of The State Museum of Pennsylvania have determined that:

• Pursuant to 25 U.S.C. 3001(3)(B), the 156 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Delaware Nation, Oklahoma; Delaware Tribe of Indians; and the Stockbridge Munsee Community, Wisconsin (hereafter referred to as “The Tribes”).

Additional Requestors and Disposition

Lineal descendants or representatives of any Indian Tribe or Native Hawaiian organization not identified in this notice that wish to claim these cultural items should submit a written request with information in support of the claim to Dr. Kurt W. Carr, Senior Curator, Archaeology, The State Museum of Pennsylvania, 300 North Street, Harrisburg, PA 17120-0024, telephone (717) 783-9926, email kcarr@pa.gov, by September 24, 2021. After that date, if no additional claimants have come forward, transfer of control of the unassociated funerary objects to The Tribes may proceed.

The State Museum of Pennsylvania is responsible for notifying The Tribes that this notice has been published.

Dated: August 11, 2021.
Melanie O'Brien,
Manager, National NAGPRA Program.

[FR Doc. 2021-18272 Filed 8-24-21; 8:45 am]

BILLING CODE 4312-52-P